DEPARTMENT OF STATE

[DA1-239]

Bureau of Educational and Cultural Affairs Redelegation of Authority to the Principal Deputy Assistant Secretary and Deputy Assistant Secretary for Policy and Resources and to the Chief, Exchange Visitor Program Designation Staff

By virtue of the authority vested in me and in accordance with Delegation of Authority No. 236-1, dated November 9, 1999, I hereby redelegate to the Principal Deputy Assistant Secretary and Deputy Assistant Secretary for Policy and Resources (ECA/D) and to the Chief, Exchange Visitor Program Designation Staff and designated members of the Exchange Visitor Program Designation Staff (ECA/GCV), the authority to exercise the following-described authorities:

To ECA/D, the functions in sections 101(1)(15)(J) and 212(j) of the Immigration and Nationality Act (8 U.S.C. 1101(a)(15)(J) and 1182 (J)), and section 641 of Pub L. 104-208 (8 U.S.C. 1372(h)(2)(A)) as they relate to the designation, redesignation, suspension, or revocation of Exchange Visitor Programs.

To ECA/GCV, the functions in sections 101(l)(15)(J) and 212(j) of the Immigration and Nationality Act (8 U.S.C. 1101(a)(15)(J) and 1182(J)), and section 641 of Pub. L. 104-208 (8 U.S.C. 1372(h)(2)(A)) as they relate to all other Exchange Visitor Program matters. (In exercising this authority, ECA/GCV shall consult, as necessary, with ECA/D.)

Notwithstanding any other provision of this Order, the Assistant Secretary retains, and may at any time exercise, any function or authority redelegated herein.

All actions related to the responsibilities described herein which have been taken pursuant to any authority delegated prior to this Order or delegated by this Order, and which have been taken prior to and are in effect on the date of this Order, are hereby confirmed and ratified. Such actions shall remain in force as if taken under this Order, unless or until rescinded, amended or superseded.

This Redelegation shall be published in the Federal Register.

This Order is effective immediately.

Dated: March 10, 2000.
William B. Bader,
Assistant Secretary for Educational and Cultural Affairs, Department of State.

[FR Doc. 00-7354 Filed 3-24-00; 8:45 am]

BILLING CODE 4710-08-P